DEPARTMENT OF LABOR

Office of the Secretary

Submission for OMB Review; Comment Request

April 13, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of a currently approved collection.

Title: Employment Information Form.

OMB Number: 1215-0001.

Frequency: On occasion.

Affected Public: Individuals or households; Business or other for-profit; Not-for-profit; Farms; Federal Government; State, local or tribal government.

Number of Respondents: 35,000.

Number of Annual Responses: 35,000.

Estimated Time per Response: 20 minutes.

Burden Hours Total: 11,667.

Total annualized capital/startup costs: $0.

Total annual costs (operating/maintaining systems or purchasing services): $0.

Description: This form is an optional form used by complainants and others to provide information about alleged violations of the labor standards provisions of the Fair Labor Standard Act. The form is provided both in the English and Spanish languages. The form is used not only by current employees of a firm but by anyone alleging violations by a firm, including former employees, competitor employer, unions, etc. The form is completed by the complainants themselves or by a Wage and Hour Investigator using information provided by the complainants either in person or over the telephone. The completed form is examined by a Wage and Hour Investigator to obtain information about employer compliance with the provisions of the various labor standards laws enforced by the Division and to determine if the Division has jurisdiction to investigate the alleged violation.

When a violation is suspected and an investigation is scheduled, the completed Form WH-3 is made a part of the investigation case file. Without the information provided, it would be extremely difficult to determine the potentiality of employer violations and scheduled effective enforcement activities.

Ira L. Mills,
Departmental Clearance Officer.

[FR Doc. 04-9120 Filed 4-21-04; 8:45 am]

BILLING CODE 4510-27-P